NUCLEAR REGULATORY COMMISSION

Sunshine Act; Meeting

Dates: Weeks of December 23, 30, 2002, January 6, 13, 20, 27, 2003.

Place: Commissioners' Conference Room, 11555 Rockville Pike, Rockville, Maryland.

Status: Public and closed.

Matters To Be Considered:

Week of December 23, 2002

There are no meetings scheduled for the week of December 23, 2002.

Week of December 30, 2002—Tentative

There are no meetings scheduled for the week of December 30, 2002.

Week of January 6, 2003—Tentative

There are no meetings scheduled for the week of January 6, 2003.

Week of January 13, 2003—Tentative

Tuesday, January 14, 2003

10 a.m.—Discussion of security issues (closed—Ex. 1).

2 p.m.—Briefing on NRC Lessons Learned: Davis-Besse RVH Degradation (public meeting) (contact: Stacey Rosenberg, 301-415-1733).

This meeting will be webcast live at the Web address— www.nrc.gov.

Week of January 20, 2003—Tentative

Thursday, January 23, 2003

2 p.m.—Briefing on status of NMSS programs, performance, and plans—Materials Safety (public meeting) (contact: Claudia Seelig, 301-415-7243).

This meeting will be webcast live at the Web address— www.nrc.gov.

Week of January 27, 2003—Tentative

There are no meetings scheduled for the Week of January 27, 2003.

* The schedule for Commission meetings is subject to change on short notice. To verify the status of meetings call (recording)—(301) 415-1292. Contact person for more information: R. Michelle Schroll (301) 415-1662.

The NRC Commission Meeting Schedule can be found on the Internet at: www.nrc.gov/what-we-do/policy-making/schedule.html.

Additional Information: The briefing on status of NRR programs, performance, and plans tentatively scheduled on January 14, 2003, has been rescheduled tentatively on February 10, 2003.

By a vote of 5-0 on December 17, the Commission determined pursuant to U.S.C. 552b(e) and § 9.107(a) of the Commission's rules that Affirmation of (a) Duke Cogema Stone & Webster (Savannah River Mixed Oxide Fuel Fabrication Facility), CLI-02-03, 55 NRC 158 (2002) (Granting Applicant's Petition for Review of Board's Admission of Terrorism Contention in LBP-01-35, 54 NRC 403 (2002)), (b) Private Fuel Storage, L.L.C. (independent spent fuel storage installation), CLI-02-03, 55 NRC 155 (2002) (Accepting Referred Ruling Denying Admission of Utah's Terrorism Contention in LBP-01-37, 54 NRC 476 (2001)), (c) Duke Energy Corp. (McGuire Nuclear Station, units 1 & 2; Catawba Nuclear Station, units 1 & 2), CLI-02-06, 55 NRC 164 (2002) (Accepting Certification of Terrorism-related issue in LBP-02-04, 55 NRC 49 (2002)), (d) Dominion Nuclear Connecticut, Inc. (Millstone Nuclear Power Station, until no. 3), CLI-02-05, 55 NRC 131 (2002) (Accepting Referred Ruling Denying Admission of the Interventors' Terrorism Contention in LBP-02-05, 55 NRC 161 (2002)), (e) Duke Energy Corporation (McGuire Nuclear Station, units 1 & 2, Catawba Nuclear Station, units 1 & 2, and (f) Private Fuel Storage (Independent Spent Fuel Storage Installation) Docket No. 72-22-ISFSI; Utah's “Suggestion of Lack of Jurisdiction” and Petition for Rulemaking under the Nuclear Waste Policy Act be held on December 18, and on less than one week's notice to the public.

This notice is distributed by mail to several hundred subscribers; if you no longer wish to receive it, or would like to be added to the distribution, please contact the Office of the Secretary, Washington, DC 20555 (301-415-1969). In addition, distribution of this meeting notice over the Internet system is available. if you are interested in receiving this Commission meeting schedule electronically, please send an electronic message to dkw@nrc.gov.

Dated: December 17, 2002.
R. Michelle Schroll,
Acting Technical Coordinator, Office of the Secretary.

[FR Doc. 02-32544 Filed 12-20-02; 8:45 am]

BILLING CODE 7590-01-M